ENVIRONMENTAL PROTECTION AGENCY

40 CFR Part 372

[EPA-HQ-TRI-2009-0844; FRL-9488-5]

RIN 2025-AA27

Hydrogen Sulfide; Community Right-to-Know Toxic Chemical Release Reporting

AGENCY: Environmental Protection Agency (EPA).

ACTION: Lifting of Administrative Stay for Hydrogen Sulfide; Correction.

SUMMARY: The Environmental Protection Agency published in the Federal Register of October 17, 2011, a document lifting the Administrative Stay of the reporting requirements for hydrogen sulfide. The Office of the Federal Register mistakenly lifted the stay of the reporting requirements for methyl mercaptan, and the document also inadvertently left out language in the preamble and contained incorrect language in the amendatory instruction section, which section is required by 1 CFR 21.1. This document affirms that the stay on the reporting requirements for methyl mercaptan was not lifted and sets out the language in the preamble and the amendatory instruction section as it should have printed.

DATES: Effective on October 17, 2011.

FOR FURTHER INFORMATION CONTACT: Daniel R. Bushman, Environmental Analysis Division, Office of Information Analysis and Access (2842T), Environmental Protection Agency, 1200 Pennsylvania Ave., NW., Washington, DC 20460; telephone number: (202) 566-0743; fax number: (202) 566-0677; email: bushman.daniel@epa.gov.

SUPPLEMENTARY INFORMATION: The Environmental Protection Agency published a document on August 22, 1994 (59 FR 43048) imposing stays on the reporting requirements for hydrogen sulfide and methyl mercaptan found at 40 CFR 372.65. The document published in the Federal Register of October 17, 2011 (76 FR 64022) should have lifted the Administrative Stay of the reporting requirements for only hydrogen sulfide. The Office of the Federal Register mistakenly lifted the stay of the reporting requirements for methyl mercaptan as well. The document also inadvertently left out language in the preamble and contained incorrect language in the amendatory instruction section, which section is required by 1 CFR 21.1, regarding the lifted stay of hydrogen sulfide reporting requirements.

In FR Doc. 2011-23534 published on October 17, 2011 (76 FR 64022), make the following corrections.

1. On page 64025, in the second column, add a new paragraph before the beginning of section IV as follows:

“In order to lift the stay, as a procedural matter, EPA must include an instruction to the Office of the Federal Register, as required by 1 CFR 21.1. This instruction does not alter or change the content or text of any regulatory provision.”

2. On page 64037, in the third column following the signature, correctly revise the amendatory language to read as follows:

“Therefore, 40 CFR part 372 is affected as follows:

PART 372—[RESTATED]

1. The authority citation for part 372 continues to read as follows:

Authority: 42 U.S.C. 11023 and 11048.

§ 372.65 [Affected]

2. Section 372.65 is affected by lifting the reporting stay on the hydrogen sulfide entry and all related dates under paragraph (a), and by lifting the stay on the entry for CAS No. 7783-06-4 and all related dates under paragraph (b).”

Dated: November 2, 2011.
Malcolm D. Jackson,
Assistant Administrator and Chief Information Officer.

[FR Doc. 2011-28888 Filed 11-7-11; 8:45 am]

BILLING CODE 6560-50-P